DEPARTMENT OF HEALTH AND HUMAN SERVICES

Administration for Community Living

Intent To Award a Single-Source Supplement for the Expanding the National Capacity for Person-Centered, Trauma-Informed (PCTI) Care: Services and Supports for Holocaust Survivors and Other Older Adults With a History of Trauma and Their Family Caregivers Program

SUMMARY: The Administration for Community Living (ACL) announces the intent to award a single-source supplement to the current cooperative agreement held by the Jewish Federations of North America for the project Expanding the National Capacity for Person-Centered, Trauma-Informed (PCTI) Care: Services and Supports for Holocaust Survivors and Other Older Adults with a History of Trauma and Their Family Caregivers program. The purpose of this program is to advance the development and expansion of PCTI supportive services for Holocaust survivors living in the U.S. Additionally, the project is advancing the capacity of the broader aging services network to deliver services of this type to any older adult with a history of trauma and their family caregivers. The overall goals of the program are as follows:

1. Increase the number and type of innovations in PCTI care for Holocaust survivors, older adults with a history of trauma, and their family caregivers, and

2. Expand the capacity of the Aging Network to provide PCTI care to the populations it serves.

The administrative supplement for FY 2022 will be in the amount of $987,000, bringing the total award for FY 2022 to $5,922,000.

The additional funding will not be used to begin new projects, but to permit JFNA to expand current activities. For example, to increase the number and diversity of innovations in PCTI care, the grantee will expand its National Networks Program with a focus on addressing social isolation, a leading risk factor for poor health among older adults that has become even more acute because of COVID-19, and on providing PCTI care to foreign born older adults with histories of trauma. JFNA will also promote special topics and innovations in PCTI care among subgrantees in the Expanded Critical Supports Program, including innovations that promote the safe and welcoming re-integration of Holocaust survivors and other traumatized older populations into in-person programs as COVID-19 becomes less of a risk factor and that promote resilience in older trauma survivors to reduce their risk for institutionalization. To augment project efforts and build the capacity of the Aging Network to provide PCTI care, JFNA will work with project partners to expand and enhance the online PCTI training program currently under way in the original ACL grant. This training will increase system-wide awareness and knowledge about PCTI care. Additionally, JFNA will recruit a year-long, graduate level fellow to enhance its evaluation and dissemination promising practices in PCTI care and in PCTI program evaluation.

Program Name: Expanding the National Capacity for Person-Centered, Trauma-Informed (PCTI) Care: Services and Supports for Holocaust Survivors and Other Older Adults with a History of Trauma and Their Family Caregivers.

Recipient: The Jewish Federations of North America.

Period of Performance: The supplement award will be issued for the third year of the five-year project period of September 1, 2020 through August 31, 2025.

Total Award Amount: $5,922,000 in FY 2022.

Award Type: Cooperative Agreement Supplement.

Statutory Authority: The Older Americans Act (OAA) of 1965, as amended, Public Law 109-365—Title 4, Section 411.

Basis for Award: The Jewish Federations of North America (JFNA) is currently funded to carry out the objectives of the project entitled Expanding the National Capacity for Person-Centered, Trauma-Informed (PCTI) Care: Services and Supports for Holocaust Survivors and Other Older Adults with a History of Trauma and Their Family Caregivers for the period of September 1, 2020 through August 31, 2025. Since project implementation began in late 2020, the grantee has accomplished a great deal. The supplement will enable the grantee to carry their work even further, serving more Holocaust survivors, other older adults with histories of trauma, family caregivers and to train more professionals in the principles of PCTI. The additional funding will not be used to begin new projects or activities.

The JFNA is uniquely positioned to complete the work called for under this project. JFNA's partners on this project include the National Indian Council on Aging, the Japanese American Service Committee, the National Caucus and Center on Black Aging, Inc., the New Jersey Office for Refugees International Rescue Committee, the Asociacion Nacional Pro Personas Mayores (a pioneering organization in the field of Hispanic/minority aging); SAGE (the nation's leading organization devoted to aging in the lesbian, gay, bisexual, and transgender community); and HIAS (which works around the world to protect refugees). Additional project partners include, the Caregiver Center at the Veterans Affairs Medical Center at the University of Tennessee; the Community Care Corps Program, funded by the Administration for Community Living and led by the Oasis Institute; the Caregiver Action Network, and USAging; LeadingAge, an association of 6,000 not for profit organizations across the continuum of aging services; the Center for Health Care Strategies, Inc., which advances models for organizing and financing health care delivery; and the Campaign for Trauma-Informed Policy and Practice, which promotes the building of trauma-informed communities; among others.

Establishing an entirely new grant project at this time would be potentially disruptive to the current work already well under way. More importantly, the Holocaust survivors and other older adults currently being served by this project could be negatively impacted by a service disruption, thus posing the risk of re-traumatization and further negative impacts on health and wellbeing. If this supplement is not provided, the project would be less able to address the significant unmet health and social support needs of additional Holocaust survivors and other older adults with histories of trauma. Similarly, the project would be unable to expand its current technical assistance and training efforts in PCTI concepts and approaches, let alone reach beyond traditional providers of services to this population to train more “mainstream” providers of aging services.

For Further Information Contact: For further information or comments regarding this program supplement, contact Greg Link, U.S. Department of Health and Human Services, Administration for Community Living, Administration on Aging, Office of Supportive and Caregiver Services: Telephone (202)-795-7386; email greg.link@acl.hhs.gov.

Dated: May 6, 2022.
Alison Barkoff,
Acting Administrator and Assistant Secretary for Aging.

[FR Doc. 2022-10084 Filed 5-10-22; 8:45 am]

BILLING CODE 4154-01-P